NUCLEAR REGULATORY COMMISSION

[Docket No. 50-390]

Tennessee Valley Authority; Watts Bar Nuclear Plant, Unit 1; Exemption

1.0 Background

Tennessee Valley Authority (TVA, the licensee) is the holder of Facility Operating License No. NPF-90, which authorizes operation of Watts Bar Nuclear Plant (WBN), Unit 1. The license provides, among other things, that the facility is subject to all rules, regulations, and orders of the Nuclear Regulatory Commission (NRC) now or hereafter in effect. The facility consists of one pressurized-water reactor located in Rhea County, Tennessee.

2.0 Request/Action

Sections IV.F.2.b and c of Appendix E to Title 10 of the Code of Federal Regulations (10 CFR) Part 50 require the licensee at each site to conduct an exercise of its onsite emergency plan and of its offsite emergency plans biennially with full or partial participation by each offsite authority having a role under the plan. During such biennial exercises, the NRC evaluates onsite and the Federal Emergency Management Agency (FEMA) evaluates offsite emergency preparedness activities, including interaction with the various State and local emergency management agencies. TVA successfully conducted an exercise at WBN during the week of November 5, 2003.

The licensee had scheduled a plume exposure pathway exercise for November 2, 2005, however, due to Hurricane Katrina, the Tennessee Emergency Management Agency (TEMA) was unable to support the exercise. Under the current regulations, the licensee would have had until December 31, 2005, to complete their next exercise. Instead, the licensee will conduct an evaluated exercise on June 7, 2006. Future exercises will be scheduled biennially from the year 2005.

The Commission, pursuant to 10 CFR 50.12(a)(1), may grant exemptions from the requirements of 10 CFR Part 50 that are authorized by law, will not present an undue risk to public health and safety, and are consistent with the common defense and security. The Commission, however, pursuant to 10 CFR 50.12(a)(2), will not consider granting an exemption unless special circumstances are present. Under 10 CFR 50.12(a)(2)(ii), special circumstances are present when application of the regulation in the particular circumstances would not serve the underlying purpose of the rule or is not necessary to achieve the underlying purpose of the rule. Under 10 CFR 50.12(a)(2)(v), special circumstances are present whenever the exemption would provide only temporary relief from the applicable regulation and the licensee or applicant has made good faith efforts to comply with the regulation.

3.0 Discussion

The underlying purpose for conducting a biennial exercise is to ensure that emergency organization personnel are familiar with their duties and to test the adequacy of emergency plans. In order to accommodate the scheduling of exercises, the NRC has allowed licensees to schedule the exercises at any time during the calendar biennium. Conducting the WBN exercise in calendar year 2006 places the exercise past the previously scheduled biennial calender year of 2005.

Since the last exercise conducted at WBN on November 5, 2003, WBN has conducted four training drills, a full scale plume phase off-year exercise on November 3, 2004, and an integrated training drill on September 28, 2005. The NRC staff considers the intent of this requirement is met by having conducted these series of exercises and drills. The NRC staff considers that these measures are adequate to maintain an acceptable level of emergency preparedness during this period, satisfying the underlying purpose of the rule. Therefore, the special circumstances of 10 CFR 50.12(a)(2)(ii) are satisfied.

Only temporary relief from the regulation is provided by the requested exemption since WBN will resume their normal biennial exercise schedule in 2007. The licensee has made a good faith effort to comply with the regulation. The exemption is being sought by the licensee in response to a request by TEMA to postpone the exercise. TEMA was unable to support the original schedule for the exercise due to a series of severe weather events. FEMA stated, “Based on the impact that the response to Hurricane Katrina had on the State of Tennessee, we are agreeing to the postponement of the Watts Bar Nuclear Plant exercise until June 2006.”

The NRC staff, having considered the schedule and resource issues with those agencies that participate in and evaluate the offsite portion of the exercises, concludes that the licensee made a good faith effort to meet the requirements of the regulation. The NRC staff, therefore, concludes that the exemption request meets the special circumstances of 10 CFR 50.12(a)(2)(v) and should be granted.

4.0 Conclusion

Accordingly, the Commission has determined that, pursuant to 10 CFR 50.12(a), the exemption is authorized by law, will not present an undue risk to the public health and safety, and is consistent with the common defense and security. Also, special circumstances are present. Therefore, the Commission hereby grants TVA an exemption from the requirements of 10 CFR Part 50, Appendix E, Sections IV.F.2.b and c for WBN, Unit 1.

Pursuant to 10 CFR 51.32, the Commission has determined that the granting of this exemption will not have a significant effect on the quality of the human environment (70 FR 76470).

This exemption is effective upon issuance.

Dated at Rockville, Maryland, this 20th day of December, 2005.
For the Nuclear Regulatory Commission.
Catherine Haney,
Director, Division of Operating Reactor Licensing, Office of Nuclear Reactor Licensing.

[FR Doc. E6-3924 Filed 3-16-06; 8:45 am]

BILLING CODE 7590-01-P